DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York, NY. The human remains were removed from an unknown location and from Kyle Mound, Muscogee County, GA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York University College of Dentistry professional staff in consultation with representatives of the Alabama-Coushatta Tribes of Texas; Alabama-Quassarte Tribal Town, Oklahoma; Kialegee Tribal Town, Oklahoma; Muscogee (Creek) Nation, Oklahoma; Poarch Band of Creek Indians of Alabama; and Thlopthlocco Tribal Town, Oklahoma.

At an unknown date, human remains representing a minimum of one individual were removed from an unknown location. The human remains were acquired by Dr. Joseph Jones of Louisiana at an unknown date. In 1906, the widow of Dr. Jones sold his collection to the Museum of the American Indian, Heye Foundation. In 1956, the Museum of the American Indian transferred the human remains to Dr. Theodore Kazamiroff, New York University College of Dentistry. No known individual was identified. No associated funerary objects are present.

Museum records indicate that the human remains are from an unknown location and are those of a Creek individual. The attribution of a tribal affiliation of Creek in the museum records suggests that the remains may date to the Historic period. No information from the museum records, osteological assessment, or consultation conflicts with this interpretation. Tribal representatives of the Alabama-Coushatta Tribes of Texas; Alabama-Quassarte Tribal Town, Oklahoma; Kialegee Tribal Town, Oklahoma; Muscogee (Creek) Nation, Oklahoma; Poarch Band of Creek Indians of Alabama; and Thlopthlocco Tribal Town, Oklahoma, support the identification of the human remains as Creek.

In the late 1800s or early 1900s, human remains representing a minimum of one individual were removed from Kyle Mound, Muscogee County, GA, by Friend W. Miller. In 1946, they were acquired by the Museum of the American Indian, Heye Foundation. In 1956, the Museum of the American Indian transferred the human remains to Dr. Theodore Kazamiroff, New York University College of Dentistry. No known individual was identified. No associated funerary objects are present.

Archeological data, including pottery types and shell gorgets, indicate that Kyle Mound was a Late Mississippian mound. It was part of the Chattahoochee subtradition of the Lamar Complex and likely dates to the late Rood or Bull Creek phase, circa A.D. 1200-1475. A Protohistoric or Historic period cemetery surrounded the mound. The Lower Creek village of Kasihta was located next to the mound and cemetery. The village was first identified in historic records in 1732, but had already been in existence for some time. It was a major regional center until the residents were relocated from the village to Oklahoma in 1836.

Tribal representatives identified the Lower Chattahoochee River as part of the ancestral territory of the Hitchiti-speaking Lower Creek people. A continuous occupation of Hitchiti speakers in the region from the Rood phase to the Historic period is suggested by archeological and historic records. Most Lower Creek voluntarily relocated or were forcibly removed to Oklahoma in the first half of the 19th century. The Upper Creek nations and nations who were part of the Creek Confederacy, such as the Alabama and Koasati, were also relocated to Oklahoma. Before their final removal to Oklahoma, some Alabama and Koasati established a community in Texas. Consultation evidence indicates that some members of the Federally-recognized nations descended from the Creek Confederacy trace their ancestry specifically to the village of Kasihta.

Officials of New York University College of Dentistry have determined that, pursuant to 25 U.S.C. 3001 (9-10), the human remains described above represent the physical remains of two individuals of Native American ancestry. Officials of New York University College of Dentistry also have determined that, pursuant to 25 U.S.C. 3001 (2), there is a relationship of shared group identity that can be reasonably traced between the Native American human remains and the Alabama-Coushatta Tribes of Texas; Alabama-Quassarte Tribal Town, Oklahoma; Kialegee Tribal Town, Oklahoma; Muscogee (Creek) Nation, Oklahoma; Poarch Band of Creek Indians of Alabama; and Thlopthlocco Tribal Town, Oklahoma.

Representatives of any other Indian tribe that believes itself to be culturally affiliated with the human remains should contact Dr. Louis Terracio, New York University College of Dentistry, 345 East 24th St., New York, NY 10010, telephone (212) 998-9917, before November 27, 2009. Repatriation of the human remains to the Alabama-Coushatta Tribes of Texas; Alabama-Quassarte Tribal Town, Oklahoma; Kialegee Tribal Town, Oklahoma; Muscogee (Creek) Nation, Oklahoma; Poarch Band of Creek Indians of Alabama; and Thlopthlocco Tribal Town, Oklahoma, may proceed after that date if no additional claimants come forward.

The New York University College of Dentistry is responsible for notifying the Alabama-Coushatta Tribes of Texas; Alabama-Quassarte Tribal Town, Oklahoma; Kialegee Tribal Town, Oklahoma; Muscogee (Creek) Nation, Oklahoma; Poarch Band of Creek Indians of Alabama; and Thlopthlocco Tribal Town, Oklahoma, that this notice has been published.

Dated: October 7, 2009
Sherry Hutt,
Manager, National NAGPRA Program.

[FR Doc. E9-25964 Filed 10-27-09; 8:45 am]

BILLING CODE 4312-50-S